DEPARTMENT OF AGRICULTURE

Office of the Secretary

[Docket No. CN-00-004]

Proposal to Reestablish the Advisory Committee on Universal Cotton Standards

AGENCY: Office of the Secretary, USDA.

ACTION: Notice of Intent to Reestablish the Advisory Committee on Universal Cotton Standards.

SUMMARY: The U.S. Department of Agriculture (USDA) is proposing to reestablish an advisory committee to review official Universal Standards for American Upland cotton prepared by USDA and make recommendations regarding the establishment or revision of the standards.

DATES: Comments must be received by June 21, 2000.

ADDRESSES: Send written comments to: Norma McDill, Cotton Program, AMS, USDA, 1400 Independence Avenue, Rm 2641-S, Washington, DC 20250-0224. Comments will be available for public inspection during regular business hours at the above office in Rm 2641-South Building, 14th & Independence Avenue, SW., Washington, DC.

FOR FURTHER INFORMATION CONTACT: Norma McDill, 202-720-2145.

SUPPLEMENTARY INFORMATION: Pursuant to the Federal Advisory Committee Act (5 U.S.C. App.) , notice is hereby given that the Secretary of Agriculture intends to reestablish the Advisory Committee on Universal Standards composed of foreign and domestic representatives of the cotton industry. The purpose of the committee is to review official Universal Standards for U.S. Upland cotton prepared by USDA and make recommendations regarding the establishment or revision of the standards established under the United States Cotton Standards Act (7 U.S.C. 51 et seq.). The last Advisory Committee on Universal Standards was established in 1997. This Advisory Committee's term ended in 1999.

The Secretary has determined that the work of the committee is in the public interest and is in connection with the duties of the Department of Agriculture. No other advisory committee in existence is capable of advising and assisting the Department on the task assigned, nor does the Department have an alternative means to obtain the technical and practical expertise needed from private industry.

Equal opportunity practices, in line with USDA policies, will be followed in all appointments to the committee. To ensure that the recommendations of the committee have taken into account the needs of diverse groups served by the Department, membership shall include, to the extent practicable, individuals with demonstrated ability to represent minorities, women, and persons with disabilities.

Balanced committee membership would be attained domestically and internationally through the following committee composition.

Representation by Domestic Industry

The U.S. cotton industry's committee membership will be comprised of 12 producers and ginners, 6 representatives of merchandising firms, and 6 representatives of textile manufacturers. These representatives will be appointed by the Secretary of Agriculture.

Each member will have one vote. Accordingly, voting privileges will be divided as follows: (1) U.S. cotton producers and ginners—12 votes; (2) U.S. merchandising firms—6 votes; (3) U.S. textile manufacturers—6 votes.

Representation by Foreign Signatory Associations

There will be 2 committee members from each of the foreign signatory associations. These committee members will be designated by the respective associations. Voting privileges will be divided as follows: (1) Foreign signatory merchant associations—6 votes; (2) Foreign signatory spinner associations—6 votes.

A thirty-day comment period is provided for interested persons to comment on this action.

Dated: May 17, 2000.
Norma McDill,
Acting Deputy Administrator, Cotton Program.

[FR Doc. 00-12798 Filed 5-19-00; 8:45 am]

BILLING CODE 3410-02-P